Title 3—

The President

Proclamation 8768 of December 28, 2011

National Mentoring Month, 2012

By the President of the United States of America

A Proclamation

Every day, mentors help young Americans face the challenges of growing into adulthood. By setting a positive example and sharing their time, knowledge, and experience, mentors play an essential role in preparing our Nation’s youth for a bright future. During National Mentoring Month, we celebrate the contributions of all those who cultivate a supportive environment for the next generation, and we recommit to expanding mentorship opportunities across our country.

At school and at home, in the library and on the field, mentors lift our youth toward their goals and ambitions. As a teacher, a relative, or a trusted friend, a mentor’s steady and dependable support can inspire a child to strive for success and instill in them the confidence to achieve their full potential. Mentorship strengthens our American family, and by teaching enduring values like diligence and self-discipline, we make a powerful and lasting investment in our youth, our communities, and our Nation.

Across the Federal Government, we are working to ensure more young people have the opportunity to connect with a mentor. Last January, we partnered with businesses across America to launch the Corporate Mentoring Challenge, which calls on corporations to begin or expand mentoring programs that pair children with positive role models, foster leadership skills, and put them on the path to success in school and beyond. As part of our steadfast commitment to support our service members and their loved ones, we are funding new mentorship opportunities for children from military families. And we are continuing to engage faith and community groups to help recruit mentors who can guide our youth in education, employment, and engaged citizenship. For information and resources about mentoring opportunities, I encourage all Americans to visit: www.Serve.gov/Mentor.

By lending a hand and serving as a mentor, countless individuals have empowered young Americans with the confidence, inspiration, and tools to lead rich and fulfilling lives. This month, I encourage adults to make an investment in our Nation’s future by helping a child discover the best in themselves.

NOW, THEREFORE, I, BARACK OBAMA, President of the United States of America, by virtue of the authority vested in me by the Constitution and the laws of the United States, do hereby proclaim January 2012 as National Mentoring Month. I call upon public officials, business and community leaders, educators, and Americans across the country to observe this month with appropriate ceremonies, activities, and programs.

IN WITNESS WHEREOF, I have hereunto set my hand this twenty-eighth day of December, in the year of our Lord two thousand eleven, and of the Independence of the United States of America the two hundred and thirty-sixth.

[FR Doc. 2011-33796

Filed 12-30-11; 11:15 am]

Billing code 3295-F2-P